COMMITTEE FOR THE IMPLEMENTATION OF TEXTILE AGREEMENTS

Adjustment of an Import Limit for Certain Wool Textile Products Produced or Manufactured in Colombia; Correction

September 11, 2002.

In the letter to the Commissioner of Customs, published on September 4, 2002 (67 FR 56537), page 56537, column 2, 2nd paragraph under “Department of the Treasury, Washington, DC 20229.,”

line 3, change “154,453 dozen” to “154,453 numbers.”

James C. Leonard III,
Chairman, Committee for the Implementation of Textile Agreements.

[FR Doc. 02-23522 Filed 9-16-02; 8:45 a.m.

BILLING CODE 3510-DR-S